SECURITIES AND EXCHANGE COMMISSION

[Release No. 34-83499; File No. SR-BOX-2018-17)]

Self-Regulatory Organizations; BOX Options Exchange LLC; Notice of Withdrawal of Proposed Rule Change To Amend Rules 7150 and 7245

June 22, 2018.

On May 14, 2018, BOX Options Exchange LLC (the “Exchange”) filed with the Securities and Exchange Commission (“Commission”), pursuant to Section 19(b)(1) of the Securities Exchange Act of 1934 ¹ and Rule 19b-4 thereunder,² a proposed rule change to amend Rules 7150 and 7245 to provide certain account type information in its Price Improvement Period and Complex Price Improvement Period auction notifications. The proposed rule change was published for comment in the Federal Register on May 31, 2018.³ The Commission received no comment letters on the proposal. On June 20, 2018, the Exchange withdrew the proposed rule change (SR-BOX-2018-17).

¹ 15 U.S.C. 78s(b)(1).

² 17 CFR 240.19b-4.

³ See Securities Exchange Act Release No. 83317 (May 24, 2018), 83 FR 25074.

For the Commission, by the Division of Trading and Markets, pursuant to delegated authority.⁴
⁴ 17 CFR 200.30-3(a)(12).
Eduardo A. Aleman,
Assistant Secretary.

[FR Doc. 2018-13886 Filed 6-27-18; 8:45 am]

BILLING CODE 8011-01-P